DEPARTMENT OF ENERGY

Energy Information Administration

Agency Information Collection Extension With Changes

AGENCY: U.S. Energy Information Administration (EIA), Department of Energy.

ACTION: Notice and request for OMB review and comment.

SUMMARY: EIA, pursuant to the Paperwork Reduction Act of 1995 and with the approval of the Office of Management and Budget, intends to extend for 3 years, with changes, the following forms:

• Form EIA-63B, “Photovoltaic Module Shipments Report,”

• Form EIA-411, “Coordinated Bulk Power Supply Program Report,”

• Form EIA-826, “Monthly Electric Utility Sales and Revenue Report with State Distributions,” (discontinued form to be replaced by Form EIA-861M),

• Form EIA-860, “Annual Electric Generator Report,”

• Form EIA-860M, “Monthly Update to the Annual Electric Generator Report,”

• Form EIA-861, “Annual Electric Power Industry Report,”

• Form EIA-861S, “Annual Electric Power Industry Report (Short Form),”

• Form EIA-861M, “Monthly Electric Power Industry Report” (replaces Form EIA-826),

• Form EIA-923, “Power Plant Operations Report,” and

• Form EIA-930, “Balancing Authority Operations Report.”

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 18, 2016. If you anticipate difficulty in submitting comments within that period, contact the person listed in ADDRESSES as soon as possible.

ADDRESSES: Send comments to Rebecca Peterson. To ensure receipt of the comments by the due date, email is recommended (Electricity2017@eia.gov). The postal mailing address is U.S. Department of Energy, U.S. Energy Information Administration, Mail Stop EI-23, Forrestal Building, 1000 Independence Avenue SW., Washington, DC 20585.

FOR FURTHER INFORMATION CONTACT: Requests for additional information should be directed to Ms. Peterson at the email address listed above. Alternatively, Ms. Peterson may be contacted on (202) 586-4509. The proposed forms and instructions, along with related information on this clearance package, can be viewed at http://www.eia.gov/survey/changes/electricity/solar/.

SUPPLEMENTARY INFORMATION: This information collection request contains the following:

(1) OMB No. 1905-0129.

(2) Information Collection Request Title: Form EIA-63B, “Photovoltaic Module Shipments Report.”

(3) Type of Request: Extension, with changes, of a currently approved collection.

(4) Purpose: The Form EIA-63B tracks photovoltaic module manufacturing, shipments, technology types, revenue and related information. The data collected on this form appear in various EIA publications. The data are used by the U.S. Department of Energy, the Congress, other government and non-government entities, and the public to monitor the current status and trends of the photovoltaic industry and to evaluate the future of the industry.

(4a) Proposed Changes: EIA proposes to:

• Change the title of the survey to Form EIA-63B, “Photovoltaic Module Shipments Report.”

• Change the reporting period from annual to monthly.

• Reduce the monthly frame to include only `large' producers with the intent of capturing at least 90% of peak kilowatts shipped. Respondents reporting total shipments of at least 100,000 peak kilowatts (kWp) during the previous year will be surveyed monthly.

• Survey the entire frame of all known U.S. producers annually with a short version of the form that collects data only on Schedule 1, Contact Information, Schedule 4, Photovoltaic Module Source and Disposition, and Schedule 7, Comments.

• In Schedule 3, Industry Status, add Part E, Production Capacity for Manufacturing Photovoltaic Modules, in order to collect current and planned maximum annual production capacity to manufacture photovoltaic modules in peak kilowatts.

• In Schedule 3, delete the words “system” and “cells” throughout the schedule and only collect data relating to “modules”. The following are two examples. On Schedule 3, Part A, change “cell and/or module manufacturing” to “module manufacturing”; change “module and/or system design” to “module design.”

• Change the name of Schedule 4 from “Photovoltaic Shipments Status” to “Photovoltaic Modules Source and Disposition.” Collect the inventory of photovoltaic modules at the beginning of the monthly reporting period (monthly or annually, depending on if the respondent is a monthly or annual respondent) instead of collecting the inventory carried forward from the previous year.

• Delete Schedule 4, Part A, Photovoltaic Cell Data, which collected cell data pertaining to inventory, shipments, and revenue.

• Delete Schedule 4, Part B, question (e), Energy Conversion Efficiency, which collected the percent of power converted per peak kilowatt.

• Delete the portion of Schedule 6, Part B, U.S. Shipments (sales within the United States excluding sales for resale) by State, Sector and End Use, which collected data on photovoltaic module shipments by sector and by end use.

(5) Number of Survey Respondents: Currently the estimated number of respondents is 76. Under the new proposed framework, there would be 16 monthly respondents and 60 annual respondents.

(6) Annual Estimated Number of Total Responses: Under the current form, there are 76 annual responses. Under the proposed new framework, the number of responses would be 252 responses, including 192 monthly and 60 annually.

(7) Annual Estimated Number of Burden Hours: The current annual estimated burden is 885 hours. Under the proposed changes, the estimated burden would be reduced to 563 hours, which represents a reduction of 322 burden hours from the prior renewal of this collection. The burden reduction is the result of the change to a monthly collection (accounting for 90 percent of the data) with remaining respondents reporting annually; in addition, questions related to photovoltaic cells are being removed.

(8) Annual Estimated Reporting and Recordkeeping Cost Burden: Additional costs to respondents are not anticipated beyond costs associated with response burden hours. The information is maintained in the normal course of business. The cost of burden hours to the respondents is estimated to be $40,547 (563 burden hours times $72.02 per hour). Therefore, other than the cost of burden hours, EIA estimates that there are no additional costs for generating, maintaining and providing the information.

(1) OMB No. 1905-0129.

(2) Information Collection Request Title: Form EIA-411, “Coordinated Bulk Power Supply Program Report.”

(3) Type of Request: Extension, with changes, of a currently approved collection.

(4) Purpose: The Form EIA-411 collects information relating to the reliability of the electric power system in the lower 48 states, including regional electricity supply and demand projections for a 10-year advance period, the characteristics and frequency of outages occurring on the Bulk Electric System, and other information on the transmission system and supporting facilities. The data are collected from the regional reliability entities by the North American Electric Reliability Corp. (NERC),¹ which then organizes and edits the information and submits the data to EIA.

¹ NERC is the official North American Electric Reliability Corporation as designated by the Federal Energy Regulatory Commission (FERC) pursuant to the Energy Policy Act of 2005. EIA has had a long-standing relationship with NERC and its predecessor for the collection of the EIA-411 data.

(4a) Proposed Changes: EIA proposes to:

• Discontinue the collection of historical information associated with demand, capacity, transactions, and reserve margins in Schedule 3. EIA proposes to delete Line Numbers 2a through 2d in Schedule 3 Part A, Projected Demand and Capacity—Summer, and Part B, Projected Demand and Capacity—Winter, relating to direct control load management, interruptible load, critical peak pricing with control, and load as a capacity resource. EIA also proposes to delete Line Number 4 in Part A and Part B that collects information on Total Demand Response. EIA proposes to delete Line Number 7 in Part A and Part B that collects information on the peak hour demand plus available reserves. EIA proposes to delete Line Numbers 10a through 10c that collect information on capacity transfers relating to imports and to delete Line numbers 11a through 11c that collect information on capacity transfers relating to exports in both Part A and Part B. EIA also proposes to delete Line Number 16 that collects information on “Target Reserve Margin.”

• One of the goals of collecting this historical information on Schedule 3 was to provide a context to evaluate the adequacy of planned reserve margins from prior survey submissions. However, significant differences between operational reserve margins and planned reserve margins has rendered this historical information less meaningful than originally intended. Until a more comprehensive framework for making such comparisons is identified, EIA is proposing not to collect this historical information.

• EIA currently collects the names of planned transmission line terminal locations in Schedule 6, Part B, Characteristics of Projected Transmission Line Additions. The instructions for Line 5, Terminal Location (From) and Line 6, Terminal Location (To) will now ask the respondent to report the state and county, in addition to the name of the terminal. This is a more standard way of reporting locations.

(5) Estimated Number of Survey Respondents: Nine respondents (the eight NERC regional entities and NERC Headquarters).

(6) Annual Estimated Number of Total Responses: The annual estimated number of total responses is 9.

(7) Annual Estimated Number of Burden Hours: The annual estimated burden is 1,098 hours, which represents no change in burden hours from the prior renewal of this collection.

(8) Annual Estimated Reporting and Recordkeeping Cost Burden: Additional costs to respondents are not anticipated beyond costs associated with response burden hours. The information is maintained in the normal course of business. The cost of burden hours to the respondents is estimated to be $79,078 (1,098 burden hours times $72.02 per hour). Therefore, other than the cost of burden hours, EIA estimates that there are no additional costs for generating, maintaining and providing the information.

(1) OMB No. 1905-0129.

(2) Information Collection Request Title: Form EIA-826, “Monthly Electric Sales and Revenue with State Distributions Report.” See “Information Collection Request Title: Form EIA-861M, “Monthly Electric Power Industry Report” under SUPPLEMENTARY INFORMATION below.

(1) OMB No. 1905-0129.

(2) Information Collection Request Title: Form EIA-860, “Annual Electric Generator Report.”

(3) Type of Request: Extension, with changes, of a currently approved collection.

(4) Purpose: Form EIA-860 collects data on existing and planned electric generation plants and associated equipment including generators, boilers, cooling systems, and environmental control systems. Data are collected from all existing units and from planned units scheduled for initial commercial operation within 10 years of the specified reporting period (depending on the type of plant).

(4a) Proposed Changes: EIA proposes to:

• Collect additional information on utility-scale electricity storage (primarily batteries). Specifically, in Schedule 2, Power Plant Data, EIA proposes to add question 15, which asks if the facility has energy storage capabilities. Currently, EIA collects the same design and operational data from energy storage applications as it does from conventional generators, despite the fundamental differences between them. The rapid growth in the number and capacity of energy storage applications along with their unique operational characteristics is an important consideration for collecting information that is relevant to the electric power markets. Based on analysis from the Sandia National Laboratory, EIA developed prospective data elements and performed cognitive testing on the ability of the industry to report this information.

• On Schedule 2, EIA proposes to add questions 16a, 16b, 16c, and 16d regarding deliveries of natural gas. If a facility has a connection to a local distribution company (LDC), question 16a asks for the name of the LDC. If the facility has a pipeline connection other than to an LDC, question 16b asks for the name(s) of the owner or operator of each pipeline that connects directly to the facility or that connects to a lateral pipeline owned by this facility. Question 16c asks if the facility has on-site storage of natural gas and, if so, question 16d asks if the facility has the capability to store the natural gas in the form of liquefied natural gas. The increasing reliance on natural gas as an energy source for electricity requires a better understanding of how natural gas is distributed to electric generation facilities and if storage is possible.

• In Schedule 3, Part B, add question 22, in order to collect the “Reference Unit Power” (RUP) value for each nuclear generator as of December 31 of the data collection year. The International Atomic Energy Agency (IAEA) requested that EIA provide this information. EIA has primary responsibility to provide U.S. data to the IAEA. The IAEA needs the RUP for U.S. reactors as it does from its other IAEA member countries. Currently, EIA does not collect RUP. EIA proposes to add a question to collect information on RUP to improve the accuracy of its estimates of RUP, and to improve the United States' data submissions to the IAEA.

• In Schedule 3, Part B, Generator Information—Operable Generators, EIA proposes to remove question 23 that asks for the minimum amount of time needed to bring a generator from a non-spinning reserve status to full load. This has been unduly burdensome to collect, both on the respondents and on EIA processing staff.

• In Schedule 3, Part B, also remove question 29, which asks for the Federal Aviation Administration (FAA) Obstacle Number assigned to the turbines. This also has been burdensome to collect.

• In Schedule 3, Part B, EIA proposed to add question 30a and 30b, which asks solar PV generators having fixed tilt technologies or single-axis technologies for their fixed azimuth angles and fixed tilt angles. This will allow hourly timing of electric supply to be better understood.

• In Schedule 3, Part B, EIA proposed to add new questions 32 and 33, which asks all solar facilities if they have net metering agreements or virtual net metering agreements in place associated with their solar generation. These questions also ask facilities with net metering or virtual net metering agreements the capacity associated with these agreements. This expansion will enhance EIA's estimation of total distributed solar generation in the United States.

• In Schedule 6, Part B, Boiler Information—Air Emission Standards and Control Strategies, plants with a total steam-electric nameplate capacity of at least 10 MW report their applicable nitrogen oxides (NOX) and mercury regulations and their existing and proposed strategies for meeting these regulations; plants with a total steam-electric nameplate capacity of at least 100 MW report their applicable sulfur dioxide (SO2) regulations and their existing and proposed strategies for meeting these regulations. EIA proposes standardizing reporting by having plants with a total steam-electric nameplate capacity between 10 and 100 MW also report their applicable SO2 regulations and their existing and proposed strategies for meeting these regulations. This expansion will enhance EIA's estimation of SO2 emissions by electrical power plants.

• In Schedule 6, Part A, Boiler Information—Plant Configuration and Equipment Information, question 2, EIA proposes to collect the actual and planned retirement dates of environmental equipment at electrical power plants. This expansion will allow EIA to provide a more comprehensive inventory of environmental equipment.

(5) Estimated Number of Survey Respondents: There are approximately 4,700 respondents.

(6) Annual Estimated Number of Total Responses: The annual estimated number of total responses is approximately 4,700.

(7) Annual Estimated Number of Burden Hours: The annual estimated burden is 43,883 hours, which represents an increase of 12,789 burden hours from the prior renewal of this collection. The change in burden is the result of a 42-percent increase in the number of respondents due to industry developments as well as the addition of questions concerning storage capacity, solar generators, and several other areas.

(8) Annual Estimated Reporting and Recordkeeping Cost Burden: Additional costs to respondents are not anticipated beyond costs associated with response burden hours. The information is maintained in the normal course of business. The cost of burden hours to the respondents is estimated to be $3,160,454 (43,883 burden hours times $72.02 per hour). Therefore, other than the cost of burden hours, EIA estimates that there are no additional costs for generating, maintaining and providing the information.

(1) OMB No. 1905-0129.

(2) Information Collection Request Title: Form EIA-860M, “Monthly Update to the Annual Electric Generator Report”

(3) Type of Request: Extension, with changes, of a currently approved collection.

(4) Purpose: Form EIA-860M collects data on the status of proposed new generators scheduled to begin commercial operation within the forward 12-month period; existing generators scheduled to retire from service within the forward 12-month period; and existing generators that have proposed modifications that are scheduled for completion within one month. The information is needed to ensure a complete and accurate inventory of the nation's generating fleet, for such purposes as reliability and environmental analyses.

(4a) Proposed Change:

• EIA proposes adding questions 3a through 3d to the end of Schedule 2, Updates to Proposed New Generators:

○ Questions 3a and 3b ask for each newly operational solar generators if the output from the generator is part of a net metering agreement and, if so, how much direct current (DC) capacity (in MW) is part of the net metering agreement.

○ Questions 3c and 3d ask for each newly operational solar generators if the output from the generator is part of a virtual net metering agreement and, if so, how much DC capacity (in MW) is part of the virtual net metering agreement.

The distinction between net metering and virtual net metering is specified in the proposed instructions to the form. Responses to these proposed questions would enhance EIA's estimation of distributed solar generation in the United States.

(5) Estimated Number of Survey Respondents: During a typical year approximately 478 entities will file the form for at least one month. However, in any given month only about 200 entities fall within the reporting threshold (i.e., have a new generator that is within 12 months of entering commercial operation) and are therefore required to file the survey. Most respondents file fewer than 12 forms a year; the average for 2015 was 5.6 filings per year per respondent. Based on this historical reporting trend, the burden estimates are sufficient based on a 12 month reporting cycle.

(6) Annual Estimated Number of Total Responses: The annual estimated number of total responses is 2,677.

(7) Annual Estimated Number of Burden Hours: The annual estimated burden is 830 hours, which represents an increase of 138 burden hours from the prior renewal of this collection. The increase in burden is due to a 16-percent increase in the number of respondents who previously filed an EIA-860M as well as the addition of questions regarding net metering agreements involving newly operable solar generators.

(8) Annual Estimated Reporting and Recordkeeping Cost Burden: Additional costs to respondents are not anticipated beyond costs associated with response burden hours. The information is maintained in the normal course of business. The cost of burden hours to the respondents is estimated to be $59,777 (830 burden hours times $72.02 per hour). Therefore, other than the cost of burden hours, EIA estimates that there are no additional costs for generating, maintaining and providing the information.

(1) OMB No.: 1905-0129.

(2) Information Collection Request Title: Form EIA-861, “Annual Electric Power Industry Report.”

(3) Type of Request: Extension, with changes, of a currently approved collection.

(4) Purpose: Form EIA-861 collects annual information on the retail sale, distribution, transmission and generation of electric energy in the United States and its territories. The data include related activities such as energy efficiency and demand response programs. In combination with the Form EIA-861S short form (see below) and the monthly Form EIA-861M, this annual survey provides coverage of sales to ultimate customers of electric power and related activities.

(4a) Proposed Changes: EIA proposes to:

• In Schedule 1, Identification, under the Respondent Type section, a new respondent type entitled “Behind the Meter” will be added. This respondent type would be for entities that own/operate renewable energy generating facilities behind the utility meter that generate power intended for on-site use in a home, office building, or other commercial facility.

• Add a question to Schedule 6, Part A, Energy Efficiency, which asks a respondent, in the event that they use a Demand Side Management (DSM) Administrator to report on the respondent's DSM programs, to select that DSM Administrator from a dropdown menu. Also, for DSM Administrators respondents, move the location of where the DSM Administrators list what utilities they are providing services for (currently in Schedule 9, Footnotes) to Schedule 6, Part A.

• In Schedule 7, Part A, Net Metering Programs, add a question asking for the capacity of small-scale storage associated with net-metered distributed capacity. Also in Schedule 7, Part B, Non Net-Metered Distributed Generators add a question on the capacity of small-scale storage associated with non-net-metered distributed capacity. EIA has received a number of requests to collect these data.

• In Schedule 7, Part A, Net Metering Programs, add a question asking for the virtual net- metered capacity and virtual net-metered customer counts of net metering programs. This question would apply both to resources less than 1 MW and resources in excess of 1 MW. One of the emerging developments in the solar PV market place are community solar projects combined with virtual net-metering agreements utilities have with the customers. Virtual net metering arrangements allow generation from remotely sited generators to offset customers' monthly consumption and results in a net bill to the customer. In order to accurately account for this generation, EIA needs to expand the net metering data collection to include these situations.

• Change title of Schedule 7, Part B from “Distributed and Dispersed Generation” to “Non-net Metered Distributed Generators.”

• Eliminate all questions in Schedule 7B, Distributed and Dispersed Generation, regarding dispersed generation. Dispersed generators are commercial and industrial generators not connected/synchronized to the grid. Dispersed generation questions eliminated will include number of generators, capacity, and technology type. The amount of dispersed generation capacity reported is small and the ability of utilities to accurately report this information is unclear, since this capacity is not connected to utility grids. In addition, the terms distributed generation and dispersed generation have been a source of confusion with respondents and data users.

• Add end-use sectors to Schedule 7, Part B, Distributed and Dispersed Generation, in place of an aggregated total. Also add an additional technology (fuel cells) to Schedule 7, Part B.

• In the Form EIA-861 instructions, examples of required respondents was expanded for clarification to include transmission owners, transmission operators, and Third Party Owners of solar PV (TPO). This is being done to more explicitly clarify the types of electric power industry entities required to submit Form EIA-861.

(5) Estimated Number of Survey Respondents: There are approximately 2,300 respondents.

(6) Annual Estimated Number of Total Responses: The annual estimated number of total responses is 2,295.

(7) Annual Estimated Number of Burden Hours: The total annual estimated burden is 29,261 hours, which represents an increase of 5,138 burden hours from the prior renewal of this collection. The change in burden is primarily due to the addition of questions regarding, among other things, small-scale storage and virtual net metered capacity.

(8) Annual Estimated Reporting and Recordkeeping Cost Burden: Additional costs to respondents are not anticipated beyond costs associated with response burden hours. The information is maintained in the normal course of business. The cost of burden hours to the respondents is estimated to be $2,107,377 (29,261 burden hours times $72.02 per hour). Therefore, other than the cost of burden hours, EIA estimates that there are no additional costs for generating, maintaining and providing the information.

(1) OMB No. 1905-0129.

(2) Information Collection Request Title: Form EIA-861M, “Monthly Electric Power Industry Report” (replaces Form EIA-826). See “Information Collection Request Title: Form EIA-826, Monthly Electric Sales and Revenue with State Distributions Report” under Supplementary Information above.

(3) Type of Request: New Collection.

(4) Purpose: Form EIA-861M will collect monthly information from a sample of electric utilities, energy service providers, and distribution companies that sell or deliver electric power to end users. Data collected on this form includes sales and revenue for all end-use sectors (residential, commercial, industrial, and transportation). This survey is the monthly complement to the annual data collection from the universe of respondents made by the short and long form versions of the Form EIA-861 survey (see further below).

(4a) Proposed Changes: EIA proposes to:

• Discontinue Form EIA-826 and replace it with new Form EIA-861M, “Monthly Electric Power Industry Report.” Data collected on the discontinued Form EIA-826 will be collected on the EIA-861M with the following changes.

• In Schedule 1, Identification, under the Respondent Type section, the respondent types for State and Municipal will be combined into one category titled “State—Municipal.” A new respondent type, “Behind the Meter,” will be added. This respondent type would be for entities that own/operate renewable energy generating facilities behind the utility meter that generate power intended for on-site use in a home, office building, or other commercial facility.

• EIA proposes to add a new part, Schedule 3, Part A, Net Metering Programs, which will collect data regarding net-metering programs, including capacity, installations, storage capacity, customers, and, if available, energy sold back to the utility. These data will be reported by state, balancing authority, customer class, and technology (photovoltaic, wind and other).

• EIA also proposes on the new Schedule 3, Part A, Net Metering Programs, to add virtual net metered capacity and customer counts both from resources less than 1 Megawatt (MW) and resources 1 MW or greater. Emerging developments in the solar PV market place include community solar projects that are combined with “virtual net metering” agreements between utilities and end-use customers. Virtual net metering arrangements allow generation from remotely sited generators to offset customers' monthly consumption and results in a net bill to the customer. In order to accurately account for this generation, EIA needs to expand the net metering data collection to include these situations.

• EIA proposes to delete the current Schedule 3, Part B, Net Metering, whose current data elements and additional data elements will be collected on the new proposed Schedule 3, Part A, Net Metering Programs. In place of the previous Part B, EIA will add a new Schedule 3, Part B, Non Net-Metered Distributed Generators, which will collect the number and capacity of non-net-metered distributed generators by technology and sector. The addition of these data will improve EIA's ability to make monthly estimates of generation from solar photovoltaic (PV) resources.

• EIA proposes on both Schedule 3, Part A (Net Metering Programs) and Part B (Non Net-Metered Distributed Generators), to collect the capacity of small-scale storage associated with net metered and non-net metered distributed capacity. EIA has received an increasing number of requests to collect these data.

• EIA proposes to eliminate Schedule 3, Part C, Advanced Metering, relating to advanced utility meters. These data will no longer be collected on a monthly basis. These data were changing rapidly in previous years as utilities were participating in American Reinvestment and Recovery Act (ARRA) projects. Currently the data are not moving rapidly year-over-year and EIA expects a further year-over-year decline in future years. This eliminates the need to look at it monthly. These data will continue to be collected annually on Form EIA-861.

(5) Estimated Number of Survey Respondents: There are approximately 620 respondents.

(6) Annual Estimated Number of Total Responses: The annual estimated number of total responses is 7,440.

(7) Annual Estimated Number of Burden Hours: The annual estimated burden is 15,178 hours, which represents an increase of 6,415 burden hours from the prior renewal of this collection. The increase in burden is due to growth in the number of respondents due to industry developments and the addition of questions regarding capacity.

(8) Annual Estimated Reporting and Recordkeeping Cost Burden: Additional costs to respondents are not anticipated beyond costs associated with response burden hours. The information is maintained in the normal course of business. The cost of burden hours to the respondents is estimated to be $1,093,120 (15,178 burden hours times $72.02 per hour). Therefore, other than the cost of burden hours, EIA estimates that there are no additional costs for generating, maintaining and providing the information.

(1)OMB No. 1905-0129.

(2) Information Collection Request Title: Form EIA-861S, “Annual Electric Power Industry Report (Short Form).”

(3) Type of Request: Extension, with changes, of a currently approved collection.

(4) Purpose: Form EIA-861S collects a limited set of information annually from 1,100 small companies involved in the retail sale of electricity. A complete set of annual data are collected from 2,300 larger companies on the Form EIA-861(long form) and monthly data are collected on the Form EIA-861M (see above). The smaller utilities that currently report on the EIA-861S are required to complete the EIA-861 (long form) once every five years to provide updated information for the statistical estimation of uncollected data.

(4a) Proposed Change:

• EIA plans to extend the time interval in which small utilities on the EIA-861S (short form) must complete the EIA-861 (long form) from 5 years to 8 years. EIA has conducted a statistical analysis of this proposal and the results indicate that the reporting interval can be extended to 8 years without adversely affecting the statistical estimation of uncollected data, i.e., sector level (residential, commercial, industrial, and transportation) sales, revenue, and customer count by state. The change will also reduce burden on smaller utilities.

(5) Estimated Number of Survey Respondents: There are approximately 1,100 respondents.

(6) Annual Estimated Number of Total Responses: The annual estimated number of total responses is 1,100.

(7) Annual Estimated Number of Burden Hours: The annual estimated burden is 833 hours, which represents a reduction of 3 burden hours from the prior renewal of this collection.

(8) Annual Estimated Reporting and Recordkeeping Cost Burden: Additional costs to respondents are not anticipated beyond costs associated with response burden hours. The information is maintained in the normal course of business. The cost of burden hours to the respondents is estimated to be $59,993 (833 burden hours times $72.02 per hour). Therefore, other than the cost of burden hours, EIA estimates that there are no additional costs for generating, maintaining and providing the information.

(1) OMB No. 1905-0129.

(2) Information Collection Request Title: Form EIA-923, “Power Plant Operations Report.”

(3) Type of Request: Extension, with changes, of a currently approved collection.

(4) Purpose: Form EIA-923 collects information from electric power plants in the United States. Data collected include electric power generation, energy source consumption, end of reporting period fossil fuel stocks, as well as the quality and cost of fossil fuel receipts.

(4a) Proposed Changes: EIA proposes to:

• On Schedule 2, Cost and Quality of Fuel Purchases—Plant Level, Part A, Contract Information, Purchases and Cost, and Part B, Quality of Fuel and Transportation, change the way natural gas receipts are collected. Currently this information is collected by supplier and individual contract. EIA proposes to collect receipts data by pipeline for all individual pipelines servicing a plant. In the case of Part A, respondents would break down their costs into total delivered costs excluding fixed charges, and pipeline capacity reservation and other fixed charges. The object of this change is to collect more useful information and to reduce the reporting burden.

• On Schedule 4, Part A, Fossil Fuel Stocks at the End of the Reporting Period for Coal, Petroleum Coke, Distillate Fuel Oil, and Residual Fuel Oil, remove the data protection for coal and petroleum stocks held at power plants and related facilities. Plant-level stocks data would be publicly released (as is other plant-specific data, such as generation) seven weeks after the end of the reporting month. The passage of time during the seven week time period between collection and publication limits any competitive harm that would result from releasing the data, and its release will provide more detailed market information to policy-makers and industry analysts.

• On Schedule 4, Part A, Fossil Fuel Stocks at the End of the Reporting Period for Coal, Petroleum Coke, Distillate Fuel Oil, and Residual Fuel Oil, institute the same reporting thresholds, generator nameplate capacity with a primary fuel of coal greater than 50 MW or total generator nameplate capacity with a primary fuel of any combination of natural gas, residual fuel oil, distillate fuel oil, or petroleum coke greater than 200 MW, as on Schedule 2, Costs and Quality of Fuel Purchases—Plant Level. This change will make the fuel receipts data (Schedule 2) and stock data (Schedule 4) consistent with each other and create a single respondent pool for the two schedules. The number of plants reporting on Schedule 4, Part A will be reduced. The change will also increase the quality of fuel stocks data collected on Schedule 4, Part A because the fuel stocks data that is reported by plants falling under the Schedule 2 threshold tends to be difficult to quality check. Also to achieve consistency across schedules, kerosene and jet fuel stocks will no longer be collected on Schedule 4.

• On Schedule 8, Part D, Monthly Cooling System Information, collect the cooling system information data on a monthly rather than an annual basis. The survey currently collects 12 months of cooling water operating data once a year. Under this proposal, monthly respondents would provide cooling system information data monthly, rather than providing 12 months of cooling data on the 923 supplemental form. The change is not expected to affect reporting burden.

• Additionally, EIA plans to reduce the current monthly sample via a more efficient model-based cutoff design. It will significantly reduce the number of monthly respondents (from 2,108 respondents to 1,323) while maintaining the ability to effectively estimate data for out-of-sample power plants, i.e. power plants that only report data on an annual basis. This will also reduce the number of supplemental respondents from 1,632 to 1,056. The new sample design is expected to lower the overall burden and still produce aggregate statistics that meet EIA publication standards.

• EIA also proposes to collect data from plants whose operating status is TS, “operating under test conditions (not in commercial service)” if those plants are in fact collecting revenues from the sale of electricity. This change would allow EIA get more complete data on U.S. generation and sales.

(5) Estimated Number of Survey Respondents: There are approximately 7,328 respondents. The monthly form is filed by 1,323 respondents; the annual form is filed by 6,005 respondents; and the supplemental form is filed by 1,056 respondents. (Those same 1,056 supplemental respondents also file the monthly form and are included in the 1,323 respondents on the monthly form).

(6) Annual Estimated Number of Total Responses: The annual estimated number of total responses is 22,937.

(7) Annual Estimated Number of Burden Hours: The annual estimated burden is 55,283 hours, which represents a reduction of 16,029 burden hours from the prior renewal of this collection. The change in burden is primarily due to the removal of questions related to cooling water and frame modification resulting in fewer respondents.

(8) Annual Estimated Reporting and Recordkeeping Cost Burden: Additional costs to respondents are not anticipated beyond costs associated with response burden hours. The information is maintained in the normal course of business. The cost of burden hours to the respondents is estimated to be $3,981,482 (55,283 burden hours times $72.02 per hour. Therefore, other than the cost of burden hours, EIA estimates that there are no additional costs for generating, maintaining and providing the information.

(1) OMB No. 1905-0129.

(2) Information Collection Request Title: Form EIA-930, “Balancing Authority Operations Report”

(3) Type of Request: Extension, with changes, of a currently approved collection.

(4) Purpose: Form EIA-930 collects hourly electric power operating data from Balancing Authorities in the contiguous United States.² The data include:

² A Balancing Authority is “The responsible entity that integrates resource plans ahead of time, maintains load-interchange-generation balance within a Balancing Authority Area, and supports Interconnection frequency in real time.” (NERC, Glossary of Terms Used in NERC Reliability Standards, December 21, 2012.) In most, but not all cases, a balancing authority is an electric utility company or a Regional Transmission Organization

• Hourly demand

• Hourly next-day demand forecast

• Hourly net generation

• Hourly actual interchange with each interconnected Balancing Authority

The purpose of this survey is to enable EIA to make available a comprehensive set of the current day's system demand data on an hourly basis and the prior day's basic hourly electric system operating data on a daily basis. Besides providing a basic measure of the current status of electric systems and the United States electric industry as a whole, the data can be used to compare actual system demand with the day-ahead forecast thereby providing a measure of the accuracy of the forecasting used to commit resources. In addition, the EIA-930 data are key in addressing smart grid related issues such as integrating wind and solar generation, improving the coordination of natural gas and electric short-term operations, and expanding the use of demand response, storage, and electric vehicles in electric system operations.

(4a) Proposed Changes: EIA proposes to:

• Change the amount of time within which the respondents must report. Currently respondents must submit their data within 60 minutes of the end of the data hour. The proposal is to change that to within 30 minutes of the end of the data hour. This change would be consistent with the observed reporting capabilities of the respondents.

• Require respondents to report hourly sub-regional actual demand when these values are produced in the normal course of business within a month of the operating day.

• Require respondents to report hourly net generation by standard fuel type categories.

Also, EIA requests comments on whether it should continue its current policy of limited withholding of small Balancing Authority data for two days.

(5) Estimated Number of Survey Respondents: The annual estimated number of respondents is 66.

(6) Annual Estimated Number of Total Responses: The annual estimated number of total responses is 24,090.

(7) Annual Estimated Number of Burden Hours: The annual estimated burden is 3,960 hours, which represents an increase of 1,618 burden hours from the prior renewal of this collection. The increase in burden is due to the expansion of the form to collect net generation by standard fuel type.

(8) Annual Estimated Reporting and Recordkeeping Cost Burden: Additional costs to respondents are not anticipated beyond costs associated with response burden. The information is maintained in the normal course of business. The cost of burden hours to the respondents is estimated to be $285,199 (3,960 burden hours times $72.02 per hour). Therefore, other than the cost of burden hours, EIA estimates that there are no additional costs for generating, maintaining and providing the information.

Statutory Authority: Section 13(b) of the Federal Energy Administration Act of 1974, Pub. L. 93-275, codified at 15 U.S.C. 772(b).

Issued in Washington, DC, on May 12, 2016.
Nanda Srinivasan,
Director, Office of Survey Development and Statistical Integration, U.S. Energy Information Administration.

[FR Doc. 2016-11911 Filed 5-18-16; 8:45 am]

BILLING CODE 6450-01-P